DEPARTMENT OF COMMERCE

International Trade Administration

[C-570-980]

Crystalline Silicon Photovoltaic Cells, Whether or Not Assembled Into Modules, From the People's Republic of China: Notice of Amended Final Results of Countervailing Duty Administrative Review; 2019

AGENCY: Enforcement and Compliance, International Trade Administration, Department of Commerce.

SUMMARY: The U.S. Department of Commerce (Commerce) is amending the final results of the administrative review of the countervailing duty (CVD) order on crystalline silicon photovoltaic cells, whether or not assembled into modules (solar cells), from the People's Republic of China (China), covering the period of review (POR) January 1, 2019, through December 31, 2019, to correct ministerial errors.

DATES: Applicable August 15, 2022.

FOR FURTHER INFORMATION CONTACT: Robert Copyak, AD/CVD Operations, Office VII, Enforcement and Compliance, International Trade Administration, U.S. Department of Commerce, 1401 Constitution Avenue NW, Washington, DC 20230; telephone: (202) 482-3642.

SUPPLEMENTARY INFORMATION:

Background

Commerce issued the Final Results of this review on June 29, 2022.¹ On July 6, 2022, we received ministerial error comments from the American Alliance for Solar Manufacturing (the Alliance),² a domestic interested party, and JA Solar Technology Yangzhou Co., Ltd. (JA Solar), one of the two mandatory respondents in this administrative review.³ On July 11, 2022, we received rebuttal comments from JA Solar.⁴ We are amending the Final Results to correct three ministerial errors raised by the Alliance and JA Solar.

¹ See Crystalline Silicon Photovoltaic Cells, Whether or Not Assembled into Modules, from the People's Republic of China: Final Results and Partial Rescission of Countervailing Duty Administrative Review; 2019, 87 FR 40491 (July 7, 2022) (Final Results), and accompanying Issues and Decision Memorandum (IDM).

² See the Alliance's Letter, “Ministerial Error Allegations,” dated July 6, 2022.

³ See JA Solar's Letter, “Ministerial Error Comments,” dated July 6, 2022. The second mandatory respondent in this administrative review is Risen Energy Co. Ltd. (Risen).

⁴ See JA Solar's Letter, “Rebuttal Ministerial Error Comments,” dated July 6, 2022.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁵ With respect to final results of administrative reviews, 19 CFR 351.224(e) provides that Commerce “will analyze any comments received and if appropriate, correct any ministerial error by amending . . . the final results of review . . . .”

⁵ See 19 CFR 351.224(f).

Ministerial Errors

Commerce determines that, in accordance with section 751(h) of the Act and 19 CFR 351.224(f), it made the following ministerial errors in the Final Results: (1) used an incorrect formula to calculate the benefit from Risen's use of the Provision of Solar Glass for Less Than Adequate Remuneration program; (2) used an incorrect allocated benefit amount to calculate the program rate for Risen's use of the Special Reward Fund program; and (3) did not revise the calculations of the sales denominators for certain JA Solar companies to exclude inter-company sales to cross-owned producers. Pursuant to 19 CFR 351.224(e), Commerce is amending the Final Results to reflect the corrections of these ministerial errors in the calculation of the countervailable subsidy rates, which change from 18.58 percent ad valorem to 18.55 percent ad valorem for JA Solar,⁶ and from 12.92 percent ad valorem to 13.18 percent ad valorem for Risen.⁷ For a detailed discussion of Commerce's analysis, see the Ministerial Error Allegations Memorandum.⁸ As a result of these changes, the rate for the 12 companies not selected for individual examination in this review, which is the simple average of JA Solar and Risen's amended final ad valorem rates, changes from 15.75 percent ad valorem to 15.87 percent ad valorem.⁹

⁶ See Memorandum, “Allegations of Ministerial Errors the Final Results,” dated concurrently with, and hereby adopted by, this notice (Ministerial Error Allegations Memorandum); see also Memorandum, “JA Solar's Amended Final Calculations,” dated concurrently with this notice.

⁷ See Ministerial Error Allegations Memorandum; see also Memorandum, “Risen's Amended Final Calculations,” dated concurrently with this notice.

⁸ See Ministerial Error Allegations Memorandum.

⁹ Id. at 6.

Amended Final Results of Review

As a result of correcting the ministerial errors described above, Commerce determines the following net countervailable subsidy rates for the POR, January 1, 2019, through December 31, 2019:

¹⁰ JA Solar is cross-owned with the following 34 companies: (1) Shanghai JA Solar Technology Co., Ltd.; (2) JA (Hefei) Renewable Energy Co., Ltd.; (3) Hefei JA Solar Technology Co., Ltd.; (4) JA Solar Investment China Co., Ltd.; (5) Jing Hai Yang Semiconductor Material (Donghai) Co., Ltd.; (6) Donghai JingAo Solar Energy Science and Technology Co., Ltd. (JA Donghai); (7) Solar Silicon Valley Electronic Science and Technology Co., Ltd.; (8) Beijing Jinfeng Investment Co., Ltd.; (9) JingAo Solar Co., Ltd.; (10) Ningjin Songgong Electronic Materials Co., Ltd.; (11) Jinglong Industry and Commerce Group Co., Ltd.; (12) Ningjin County Jingyuan New Energy Investment Co., Ltd.; (13) Hebei Jinglong New Materials Technology Group Co., Ltd.; (14) Hebei Jinglong Sun Equipment Co. Ltd.; (15) Hebei Jingle Optoelectronic Technology Co., Ltd.; (16) Ningjin Jingxing Electronic Material Co., Ltd.; (17) Ningjin Saimei Ganglong Electronic Materials Co., Ltd.; (18) Hebei Ningtong Electronic Materials Co., Ltd.; (19) JA Solar (Xingtai) Co., Ltd.; (20) Xingtai Jinglong Electronic Material Co., Ltd.; (21) Xingtai Jinglong PV Materials Co., Ltd.; (22) JA PV Technology Co., Ltd.; (23) Ningjin Jinglong PV Industry Investment Co., Ltd.; (24) Baotou JA Solar Technology Co., Ltd.; (25) Xingtai Jinglong New Energy Co., Ltd.; (26) Ningjin County Jing Tai Fu Technology Co., Ltd.; (27) JA Solar Technology Co., Ltd.; (28) Jinglong Technology Holdings Co., Ltd.; (29) Ningjin Guiguang Electronics Investment Co., Ltd.; (30) Ningjin Longxin Investment Co., Ltd.; (31) Beijing JA Solar PV Technology Co., Ltd.; (32) Solar Silicon Peak Electronic Science and Technology Co., Ltd.; (33) Jingwei Electronic Materials Co., Ltd.; and (34) Taicang Juren PV Material Co., Ltd. See the Final Results IDM at 9-10.

¹¹ Risen is cross-owned with the following 12 companies: (1) Risen (Luoyang) New Energy Co., Ltd.; (2) Risen (Wuhai) New Energy Co., Ltd.; (3) Risen Energy (Changzhou) Co., Ltd.; (4) Risen Energy (Yiwu) Co., Ltd.; (5) Zhejiang Boxin Investment Co., Ltd.; (6) Zhejiang Twinsel Electronic Technology Co., Ltd. (7) JiuJiang Shengchao Xinye Technology Co., Ltd. (including JiuJang Shengshao Xinye Technology Co., Ltd. Ruichang Branch); (8) Jiangsu Sveck New Material Co., Ltd.; (9) Changzhou Sveck Photovoltaic New Material Co., Ltd.; (including Changzhou Sveck Photovoltaic New Material Co., Ltd. Jintan Danfeng Road Branch); (10) Changzhou Sveck New Material Technology Co., Ltd. (including Changzhou Sveck Photovoltaic New Material Co., Ltd. Jintan Danfeng Road Branch); (11) Ninghai Risen Energy Power Development Co., Ltd.; and (12) Risen (Ningbo) Electric Power Development Co., Ltd. See the Final Results IDM at 10-11.

Producer/exporter | Subsidy rate (percent ad valorem)
JA Solar Technology Yangzhou Co., Ltd. (JA Solar) ¹⁰ | 18.55
Risen Energy Co., Ltd ¹¹ | 13.18
Non-Selected Companies ¹² | 15.87

Disclosure

¹² See the appendix of this notice for a list of all companies that remain under review but were not selected for individual examination and to which Commerce has assigned the non-selected companies' rate.

We intend to disclose the calculations performed for these amended final results in accordance with 19 CFR 351.224(b).

Assessment Rates

Pursuant to section 751(a)(2)(C) of the Act and 19 CFR 351.212(b)(1), Commerce shall determine and U.S. Customs and Border Protections (CBP) shall assess, CVDs on all appropriate entries of subject merchandise in accordance with the amended final results of this review.

Commerce intends to issue assessment instructions to CBP no earlier than 35 days after the date of publication of these amended final results of this review in the Federal Register. However, JA Solar and Risen each have filed a summons at the U.S. Court of International Trade challenging the original Final Results. Therefore, our assessment instructions will direct CBP not to liquidate relevant entries until the time for parties to file a request for a statutory injunction has expired (i.e., within 90 days of publication of this notice).

Cash Deposit Requirements

In accordance with section 751(a)(2)(C) of the Act, Commerce also intends to instruct CBP to collect cash deposits of estimated countervailing duties in the amounts shown for the companies subject to this review. For all non-reviewed companies, we will instruct CBP to continue to collect cash deposits of estimated countervailing duties at the most recent company-specific or all-others rate applicable to the company, as appropriate. These cash deposits, effective upon publication of these amended final results, shall remain in effect until further notice.

Administrative Protective Order

This notice serves as a final reminder to parties subject to administrative protective order (APO) of their responsibility concerning the destruction of proprietary information disclosed under APO in accordance with 19 CFR 351.305(a)(3). Timely written notification of return or destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: August 8, 2022.
Lisa W. Wang,
Assistant Secretary for Enforcement and Compliance.

Appendix

Non-Selected Companies Under Review

1. Canadian Solar International Limited

2. Canadian Solar Manufacturing (Changshu) Inc.

3. Canadian Solar Manufacturing (Luoyang) Inc.

4. Chint Solar (Zhejiang) Co., Ltd.

5. CSI Cells Co., Ltd.

6. CSI-GCL Solar Manufacturing (Yancheng) Co., Ltd.

7. Hengdian Group DMEGC Magnetics Co., Ltd.

8. Jinko Solar Co., Ltd.

9. Jinko Solar Import and Export Co., Ltd.

10. LONGi Solar Technology Co., Ltd.

11. Suntech Power Co., Ltd.

12. Yingli Energy (China) Co., Ltd

[FR Doc. 2022-17470 Filed 8-12-22; 8:45 am]

BILLING CODE 3510-DS-P